DEPARTMENT OF THE INTERIOR

National Park Service

Notice of Inventory Completion: Chelan County Public Utility District, Wenatchee, WA and Museum of Anthropology at Washington State University, Pullman, WA

AGENCY: National Park Service, Interior.

ACTION: Notice.

Notice is here given in accordance with the Native American Graves Protection and Repatriation Act (NAGPRA), 25 U.S.C. 3003, of the completion of an inventory of human remains and associated funerary objects in the control of the Chelan County Public Utility District, Wenatchee, WA, and in the physical custody of the Museum of Anthropology at Washington State University, Pullman, WA. The human remains and associated funerary objects were removed from sites along the Rocky Reach Reservoir in Chelan and Douglas Counties, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by professional staff at the Museum of Anthropology at Washington State University in consultation with representatives of the Confederated Tribes of the Colville Reservation, Washington and Confederated Tribes and Bands of the Yakama Nation, Washington.

In 1954, human remains representing a minimum of one individual were removed from site 45CH53 in Chelan County, WA, by Richard Daugherty during a survey of the Rocky Reach Dam Reservoir. The human remains have been in the possession of the Museum of Anthropology at Washington State University since that time. No known individual was identified. No associated funerary objects are present.

The human remains were in a cairn marked interment of a style common among late Prehistoric Period burials on the Columbia Plateau.

In 1959, human remains representing a minimum of one individual were removed from site 45DO59 in Douglas County, WA, by Alexander Gunkel during a site testing project at the Rocky Reach Dam Reservoir. The human remains have been in the possession of the Museum of Anthropology at Washington State University since that time. No known individual was identified. The 29 associated funerary objects are 1 chipped stone drill, 1 scraper, 3 chipped stone tool tips, 14 olivella shell beads, 1 base of a chipped stone tool, 1 natural rock, 4 lots of flakes, 1 lot of wood fragments, 1 lot of faunal remains, 1 mussel shell pendant, and 1 lot of ochre.

The determination of the cultural affiliation of the human remains is based upon geographical, archeological, oral tradition, and historic evidence. Projectile point types suggest an age ranging from the middle to late Prehistoric Period (about 6,000 years ago) to the Contact Period. The olivella shell beads, red ochre, and mussel shell pendant are funerary objects common in Prehistoric burials on the Columbia Plateau. The human remains and artifacts indicate that they are from the Native people who utilized the Columbia River during the late Prehistoric Period. Descendant communities from the Native people that jointly used the Columbia River are members of the Confederated Tribes of the Colville Reservation, Washington and Confederated Tribes and Bands of the Yakama Nation, Washington.

Officials of the Chelan County Public Utility District and Museum of Anthropology at Washington State University have determined that, pursuant to 25 U.S.C. 3001 (9-10), the human remains described above represent the physical remains of two individuals of Native American ancestry. Officials of the Chelan County Public Utility District and Museum of Anthropology at Washington State University also have determined that, pursuant to 25 U.S.C. 3001 (3)(A), the 29 objects described above are reasonably believed to have been placed with or near individual human remains at the time of death or later as part of the death rite or ceremony. Lastly, officials of the Chelan County Public Utility District and Museum of Anthropology at Washington State University have determined that, pursuant to 25 U.S.C. 3001 (2), there is a relationship of shared group identity that can be reasonably traced between the Native American human remains and associated funerary objects and the Confederated Tribes of the Colville Reservation, Washington and Confederated Tribes and Bands of the Yakama Nation, Washington.

Representatives of any other Indian tribe that believes itself to be culturally affiliated with the human remains and associated funerary objects should contact Mary Collins, Director of the Museum of Anthropology at Washington State University, Pullman, WA 99164-4910, telephone (509) 335-4314, before June 8, 2009. Repatriation of the human remains and associated funerary objects to the Confederated Tribes of the Colville Reservation, Washington and Confederated Tribes and Bands of the Yakama Nation, Washington may proceed after that date if no additional claimants come forward.

The Museum of Anthropology at Washington State University is responsible for notifying the Confederated Tribes of the Colville Reservation, Washington and Confederated Tribes and Bands of the Yakama Nation, Washington that this notice has been published.

Dated: April 9, 2009.
Sherry Hutt,
Manager, National NAGPRA Program.

[FR Doc. E9-10543 Filed 5-6-09; 8:45 am]

BILLING CODE 4312-50-S